ENVIRONMENTAL PROTECTION AGENCY

[EPA-R09-OAR-2006-0147; FRL-8044-7]

Adequacy Determination for the Sacramento Eight-Hour Ozone Reasonable Further Progress Plan for Transportation Conformity Purposes; State of California

AGENCY: Environmental Protection Agency (EPA).

ACTION: Notice of adequacy.

SUMMARY: In this notice, EPA is notifying the public that EPA has found that the motor vehicle emissions budgets in the Sacramento 8-hour ozone reasonable further progress plan are adequate for conformity purposes. As a result of our finding, the Sacramento 8-hour ozone nonattainment area (which consists of all of Sacramento and Yolo counties, and portions of Placer, El Dorado, Solano, and Sutter counties) must use the motor vehicle emissions budgets from the submitted 8-hour ozone reasonable further progress plan.

DATES: This determination is effective March 29, 2006.

FOR FURTHER INFORMATION CONTACT: Dave Jesson, Environmental Protection Agency, Region IX, Air Planning Office (AIR-2), 75 Hawthorne Street, San Francisco, CA 94105, (415) 972-3957, jesson.david@epa.gov.

SUPPLEMENTARY INFORMATION: Throughout this document, whenever “we”, “us” or “our” is used, we mean EPA.

Today's notice is simply an announcement of a finding that we have already made. EPA Region IX sent a letter to the California Air Resources Board, dated February 24, 2006, stating that the motor vehicle emissions budgets for the year 2008 for the Sacramento 8-hour ozone reasonable further progress plan are adequate. This finding is also posted on EPA's conformity Web site: http://www.epa.gov/otaq/transp/conform/pastsips.htm.

Transportation conformity is required by section 176(c) of the Clean Air Act. EPA's conformity rule requires that transportation plans, programs, and projects conform to state air quality implementation plans and establishes the criteria and procedures for determining whether or not they demonstrate conformity. Conformity to a SIP means that transportation activities will not produce new air quality violations, worsen existing violations, or delay timely attainment of the national ambient air quality standards.

The criteria by which we determine whether a SIP's motor vehicle emission budgets are adequate for conformity purposes are outlined in 40 CFR 93.118(e)(4). One of these criteria is that the motor vehicle emissions budgets, when considered together with all other emissions sources, are consistent with applicable requirements for a SIP. We have preliminarily determined that the Sacramento 8-hour ozone reasonable further progress plan meets the necessary emission reduction requirements and, therefore, the motor vehicle emissions budgets can be found adequate. Please note that an adequacy review is separate from EPA's completeness review which is required by section 110(k)(1) of the Clean Air Act, and it also should not be used to prejudge EPA's ultimate action (approval or disapproval) on the submitted plan itself. Even if we find budgets adequate, the submitted plan could later be disapproved.

We have described our process for determining the adequacy of submitted SIP budgets in guidance (May 14, 1999 memo titled “Conformity Guidance on Implementation of March 2, 1999 Conformity Court Decision”). This guidance is now reflected in the transportation conformity rule at 40 CFR 93.118(e), most recently amended on July 1, 2004 (69 FR 40004) and July 20, 2004 (69 FR 43325). We followed this process in making our adequacy determination on the emissions budgets contained in the Sacramento 8-hour ozone reasonable further progress plan.

The budgets for the Sacramento area for the year 2008 are as follows: 41 tons per day of volatile organic compounds and 75 tons per day of nitrogen oxides.

Authority: 42 U.S.C. 7401 et seq.

Dated: March 1, 2006.
Laura Yoshii,
Acting Regional Administrator, EPA Region IX.

[FR Doc. E6-3588 Filed 3-13-06; 8:45 am]

BILLING CODE 6560-50-P